ENVIRONMENTAL PROTECTION AGENCY

40 CFR Part 180

[EPA-HQ-OPP-2011-0360; FRL-9380-8]

Tetrachlorvinphos; Proposed Extension of Time-Limited Interim Pesticide Tolerances

AGENCY: Environmental Protection Agency (EPA).

ACTION: Proposed rule.

SUMMARY: This regulation proposes the extension of the time-limited interim tolerances for the combined residues of the insecticide tetrachlorvinphos, including its metabolites, in or on multiple commodities which are identified in Unit III of this document, under the Federal Food, Drug, and Cosmetic Act (FFDCA).

DATES: Comments must be received on or before March 11, 2013.

ADDRESSES: Submit your comments, identified by docket identification (ID) number EPA-HQ-OPP-2011-0360, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.htm. Additional instructions on commenting or visiting the docket, along with more information about dockets generally, is available at http://www.epa.gov/dockets.

FOR FURTHER INFORMATION CONTACT: Carmen Rodia, Registration Division (7504P), Office of Pesticide Programs, Environmental Protection Agency, 1200 Pennsylvania Avenue NW., Washington, DC 20460-0001; telephone number: (703) 306-0327; email address: rodia.carmen@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

A detailed summary of the background related to EPA's extension of the time-limited interim tolerances for the combined residues of the insecticide tetrachlorvinphos, including its metabolites, in or on multiple commodities can be found in the Federal Register notices of June 8, 2011 (76 FR 33184) (FRL-8874-7) and September 16, 2011 (76 FR 57657) (FRL-8887-5). The referenced documents are available in the docket established by this action, which is described under ADDRESSES. Locate and click on the hyperlink for docket ID number EPA-HQ-OPP-2011-0360. Double-click on the documents to view the referenced background summary information.

III. Proposal

EPA, on its own initiative, under section 408(e) of the FFDCA, 21 U.S.C. 346a(e), is proposing to extend the expiration dates of the time-limited interim tolerances for the combined residues of the insecticide tetrachlorvinphos, including its metabolites, in or on cattle, fat (of which no more than 0.1 part per million (ppm) is tetrachlorvinphos per se) at 0.2 ppm; cattle, kidney (of which no more than 0.05 ppm is tetrachlorvinphos per se) at 1.0 ppm; cattle, liver (of which no more than 0.05 ppm is tetrachlorvinphos per se) at 0.5 ppm; cattle, meat (of which no more than 2.0 ppm is tetrachlorvinphos per se) at 2.0 ppm; cattle, meat byproducts, except kidney and liver at 1.0 ppm; egg (of which no more than 0.05 ppm is tetrachlorvinphos per se) at 0.2 ppm; hog, fat (of which no more than 0.1 ppm is tetrachlorvinphos per se) at 0.2 ppm; hog, kidney (of which no more than 0.05 ppm is tetrachlorvinphos per se) at 1.0 ppm; hog, liver (of which no more than 0.05 ppm is tetrachlorvinphos per se) at 0.5 ppm; hog, meat (of which no more than 2.0 ppm is tetrachlorvinphos per se) at 2.0 ppm; hog, meat byproducts, except kidney and liver at 1.0 ppm; milk, fat (reflecting negligible residues in whole milk and of which no more than 0.05 ppm is tetrachlorvinphos per se) at 0.05 ppm; poultry, fat (of which no more than 7.0 ppm is tetrachlorvinphos per se) at 7.0 ppm; poultry, liver (of which no more than 0.05 ppm is tetrachlorvinphos per se) at 2.0 ppm; poultry, meat (of which no more than 3.0 ppm is tetrachlorvinphos per se) at 3.0 ppm; and poultry, meat byproducts, except liver at 2.0 ppm. The existing tolerances, which are found in 40 CFR 180.252 will expire on March 18, 2013. EPA is proposing a new expiration date of August 18, 2013, for these tolerances.

As discussed in the previous rulemakings, these time-limited interim tolerances for tetrachlorvinphos, and its metabolites, have been determined to be safe based on previously submitted magnitude of residue data. See the 2011 proposed and final rules (76 FR 33184, June 8, 2011 and 76 FR 57657, September 16, 2011); the 2008 proposed and final rules (73 FR 6867, February 6, 2008 and 73 FR 53732, September 17, 2008); and the 2002 notice (67 FR 52985, Aug. 14, 2002). In order to support making these tolerances permanent, EPA required the submission of new magnitude of residue data. The registrant submitted livestock magnitude of residue data, and storage stability data to support previously submitted magnitude of residue data in poultry and cattle, and a waiver request for the swine magnitude of residue data. Based on that data, EPA has concluded that the data confirm previous findings made by the Agency with regard to the level of residues of tetrachlorvinphos in livestock commodities and consequently, the safety finding for these tolerances. The Agency is proposing an interim extension of the expiration dates of these time-limited interim tolerances in order to maintain the status quo while allowing the public a sufficient time to comment on the proposal to make these time-limited interim tolerances permanent.

IV. Shortened Comment Period

FFDCA section 408(e)(2) requires a comment period of not less than 60 days on EPA tolerance actions proposed on the Agency's initiative unless EPA “for good cause finds that a shorter comment period would be in the public interest * * *.” EPA has determined that such good cause exists here. This rulemaking is intended to provide an interim extension of the existing time-limited tolerances for tetrachlorvinphos to allow the Agency sufficient time to comply with the procedural requirements of section 408(e)(2). As indicated in Unit III, EPA's review of the submitted data confirms the Agency's previous safety findings and supports allowing these tolerances to remain in effect, and EPA intends to initiate a section 408(e) rulemaking to amend these time-limited tolerances to be permanent.

The existing time-limited interim tolerances are set to expire on March 18, 2013, which does not allow sufficient time for the Agency to provide a 60-day public comment period on a proposal to make these tolerances permanent. EPA intends to give the public the full 60 days to comment on this proposal, so it is proposing to extend the expiration date of the existing time-limited tolerances to maintain the status quo for the duration of the rulemaking to make the time-limited tolerances permanent. It is in the public interest to retain the existing tolerances for a sufficient period to enable the public to have an adequate opportunity to comment on the Agency's proposal to make these tolerances permanent; thus, EPA concludes there is good cause to limit the comment period for this interim proposal to 5 days.

V. Statutory and Executive Order Reviews

This proposed rule proposes to amend a tolerance under FFDCA section 408(e). The Office of Management and Budget (OMB) has exempted these types of actions from review under Executive Order 12866, entitled “Regulatory Planning and Review” (58 FR 51735, October 4, 1993). Because this proposed rule has been exempted from review under Executive Order 12866 due to its lack of significance, this proposed rule is not subject to Executive Order 13211, entitled “Actions Concerning Regulations That Significantly Affect Energy Supply, Distribution, or Use” (66 FR 28355, May 22, 2001). This proposed rule does not contain any information collections subject to OMB approval under the Paperwork Reduction Act (PRA) (44 U.S.C. 3501 et seq.), or impose any enforceable duty or contain any unfunded mandate as described under Title II of the Unfunded Mandates Reform Act of 1995 (UMRA) (2 U.S.C. 1501 et seq.). Nor does it require any special considerations under Executive Order 12898, entitled “Federal Actions to Address Environmental Justice in Minority Populations and Low-Income Populations” (59 FR 7629, February 16, 1994); or OMB review or any Agency action under Executive Order 13045, entitled “Protection of Children from Environmental Health Risks and Safety Risks” (62 FR 19885, April 23, 1997). This action does not involve any technical standards that would require Agency consideration of voluntary consensus standards pursuant to section 12(d) of the National Technology Transfer and Advancement Act of 1995 (NTTAA) (15 U.S.C. 272 note). Pursuant to the requirements of the Regulatory Flexibility Act (RFA) (5 U.S.C. 601 et seq.), the Agency hereby certifies that this proposed action will not have significant negative economic impact on a substantial number of small entities. In fact, this rule will have no impact because it merely maintains the status quo by leaving in effect existing tolerances for 5 months beyond the existing expiration dates. In addition, the Agency has determined that this action will not have a substantial direct effect on States, on the relationship between the national government and the States, or on the distribution of power and responsibilities among the various levels of government, as specified in Executive Order 13132, entitled “Federalism” (64 FR 43255, August 10, 1999). Executive Order 13132 requires EPA to develop an accountable process to ensure “meaningful and timely input by State and local officials in the development of regulatory policies that have federalism implications.” “Policies that have federalism implications” is defined in the Executive order to include regulations that have “substantial direct effects on the States, on the relationship between the national government and the States, or on the distribution of power and responsibilities among the various levels of government.” This proposed rule directly regulates growers, food processors, food handlers, and food retailers, not States. This action does not alter the relationships or distribution of power and responsibilities established by Congress in the preemption provisions of FFDCA section 408(n)(4). For these same reasons, the Agency has determined that this proposed rule does not have any “tribal implications” as described in Executive Order 13175, entitled “Consultation and Coordination with Indian Tribal Governments” (65 FR 67249, November 9, 2000). Executive Order 13175 requires EPA to develop an accountable process to ensure “meaningful and timely input by tribal officials in the development of regulatory policies that have tribal implications.” “Policies that have tribal implications” is defined in the Executive order to include regulations that have “substantial direct effects on one or more Indian tribes, on the relationship between the Federal Government and the Indian tribes, or on the distribution of power and responsibilities between the Federal Government and Indian tribes.” This proposed rule will not have substantial direct effects on tribal governments, on the relationship between the Federal Government and Indian tribes, or on the distribution of power and responsibilities between the Federal Government and Indian tribes, as specified in Executive Order 13175. Thus, Executive Order 13175 does not apply to this proposed rule.

List of Subjects in 40 CFR Part 180

Environmental protection, Administrative practice and procedure, Agricultural commodities, Pesticides and pests, Reporting and recordkeeping requirements.

Dated: February 26, 2013.
G. Jeffrey Herndon,
Acting Director, Registration Division, Office of Pesticide Programs.

Therefore, it is proposed that 40 CFR chapter I be amended as follows:

PART 180—[AMENDED]

1. The authority citation for part 180 continues to read as follows:

Authority: 21 U.S.C. 321(q), 346a and 371.

2. In § 180.252, paragraph (a), revise the table to read as follows:

§ 180.252 Tetrachlorvinphos; tolerances for residues.

(a) * * *

Commodity | Parts per million | Expiration/ revocation date
Cattle, fat (of which no more than 0.1 ppm is tetrachlorvinphos per se) | 0.2 | 8/18/13
Cattle, kidney (of which no more than 0.05 ppm is tetrachlorvinphos per se) | 1.0 | 8/18/13
Cattle, liver (of which no more than 0.05 ppm is tetrachlorvinphos per se) | 0.5 | 8/18/13
Cattle, meat (of which no more than 2.0 ppm is tetrachlorvinphos per se) | 2.0 | 8/18/13
Cattle, meat byproducts, except kidney and liver | 1.0 | 8/18/13
Egg (of which no more than 0.05 ppm is tetrachlorvinphos per se) | 0.2 | 8/18/13
Hog, fat (of which no more than 0.1 ppm is tetrachlorvinphos per se) | 0.2 | 8/18/13
Hog, kidney (of which no more than 0.05 ppm is tetrachlorvinphos per se) | 1.0 | 8/18/13
Hog, liver (of which no more than 0.05 ppm is tetrachlorvinphos per se) | 0.5 | 8/18/13
Hog, meat (of which no more than 2.0 ppm is tetrachlorvinphos per se) | 2.0 | 8/18/13
Hog, meat byproducts, except kidney and liver | 1.0 | 8/18/13
Milk, fat (reflecting negligible residues in whole milk and of which no more than 0.05 ppm is tetrachlorvinphos per se) | 0.05 | 8/18/13
Poultry, fat (of which no more than 7.0 ppm is tetrachlorvinphos per se) | 7.0 | 8/18/13
Poultry, liver (of which no more than 0.05 ppm is tetrachlorvinphos per se) | 2.0 | 8/18/13
Poultry, meat (of which no more than 3.0 ppm is tetrachlorvinphos per se) | 3.0 | 8/18/13
Poultry, meat byproducts, except liver | 2.0 | 8/18/13

* * * * *

[FR Doc. 2013-04934 Filed 3-5-13; 8:45 am]

BILLING CODE 6560-50-P